FEDERAL COMMUNICATIONS COMMISSION

47 CFR Part 52

[CC Docket No. 99-200; FCC 00-104]

Numbering Resource Optimization

AGENCY: Federal Communications Commission.

ACTION: Final rule; announcement of effective date.

SUMMARY: The Federal Communications Commission (Commission) implemented numbering resource optimization measures that will minimize the negative impact on consumers of premature area code exhausts; ensure sufficient access to numbering resources for all service providers to enter into or to compete in telecommunications markets; avoid, or at least delay, exhaust of the North American Number Plan (NANP) and the need to expand the NANP; impose the least societal cost possible, and ensure competitive neutrality, while obtaining the highest benefit; ensure that no class of carrier or consumer is unduly favored or disfavored by our optimization efforts; and minimize the incentives for carriers to build and carry excessively large inventories of numbers. Section 52.15(f) of the Commission's rules, which imposes new information collection requirements, becomes effective on July 17, 2000.

EFFECTIVE DATE: The amendment to 47 CFR 52.15(f) published at 65 FR 37703, June 16, 2000, becomes effective on July 17, 2000.

FOR FURTHER INFORMATION CONTACT: Aaron N. Goldberger, Attorney Advisor, Common Carrier Bureau, Network Services Division, (202) 418-2320 or via e-mail at agoldber@fcc.gov.

SUPPLEMENTARY INFORMATION: On March 17, 2000, the Commission adopted a Report and Order implementing administrative and technical measures that will allow it to monitor more closely the way numbering resources are used within the NANP. See 65 FR 37703, June 16, 2000. Section 52.15(f) of the Commission's rules imposes new information collection requirements. Section 52.15(f) provides that for purposes of forecast and utilization reports, reporting shall commence August 1, 2000. In the Federal Register publication, we stated that “§ 52.15(f) * * * contains information collection requirements that have not been approved by the Office of Management and Budget (OMB).” See 65 FR 37703, June 16, 2000. OMB approved the information collections on June 23, 2000. See OMB No. 3060-0895. This publication satisfies our statement that the Commission would publish a document in the Federal Register announcing the effective date of § 52.15(f).

Federal Communications Commission.
Magalie Roman Salas,
Secretary.

[FR Doc. 00-17669 Filed 7-12-00; 8:45 am]

BILLING CODE 6712-01-P